DEPARTMENT OF ENERGY

Federal Energy Regulatory Commission

[Docket No. CP08-12-000]

Southern Star Central Gas Pipeline, Inc.; Notice of Application

November 1, 2007.

Take notice that on October 30, 2007, Southern Star Central Gas Pipeline, Inc. (Southern Star), 4700 State Highway 56, Owensboro, Kentucky 42301, filed in Docket No. CP08-12-000, an application pursuant to section 7(b) of the Natural Gas Act (NGA) and Part 157 of the Commission's Regulations, for an order permitting and approving the abandonment by reclaim of two 660-horsepower White Superior compressor units located in Johnson County, Kansas, all as more fully set forth in the application which is on file with the Commission and open to public inspection. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Southern Star states that due to the abandonment of the Craig storage field as authorized by order of the Commission in Docket No. CP98-280-000 (85 FERC ¶61,184) the compressor engines are no longer required to provide the storage field compression service for which they were originally installed. Southern Star stated in the aforementioned application that the compressor engines at the Craig station were being evaluated at that time for use elsewhere on its pipeline system.

Southern Star further states that one compressor engine will be removed from the Craig compressor station, refurbished and installed at the South Welda storage field as booster compression. Southern Star has requested authorization for said engine installation at South Welda storage field in Docket No. CP08-4-000, which is currently pending before the Commission. The other compressor engine will be removed and warehoused at Southern Star's Welda compressor station. The existing Craig compressor building will remain in place to be used as a warehouse facility for pipe, equipment and supplies.

Any questions regarding this application should be directed to David N. Roberts, Manager, Regulatory Affairs, at (270) 852-4654.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

Comment Date: November 23, 2007.

Kimberly D. Bose,
Secretary.

[FR Doc. E7-21919 Filed 11-7-07; 8:45 am]

BILLING CODE 6717-01-P